DEPARTMENT OF AGRICULTURE

Forest Service

Notice of New Fee Site; Federal Lands Recreation Enhancement Act

AGENCY: Siuslaw National Forest, Forest Service, USDA.

ACTION: Notice.

SUMMARY: The Siuslaw National Forest is proposing to charge new fees at five recreation sites. Sites are undergoing new construction or amenities are being added to improve visitor services and experiences. Fees are assessed based on the level of amenities and services provided, cost of operation and maintenance, market assessment, and public comment. Fee receipts would be used for the operation and maintenance of these recreation sites.

Castle Rock and Rocky Bend campgrounds will be converted to group campgrounds offering a new opportunity for the public and available to reserve at $75/night. Major reconstruction of the historic Hebo Kitchen, a day use picnic shelter, at Hebo Lake is planned this year and would be available for groups to reserve at $50/day. A $5 day use fee at South Lake/Pioneer Indian Trailhead would be added and recreation passes honored. This site will have new interpretive materials and picnic tables as well as trash service. A $5 day use fee or recreation pass would also be honored at the new Cascade Head interpretive site along the Salmon River estuary within Cascade Head Scenic Research Area. This site is currently under construction and will be completed later this year.

People are invited to comment on this proposal.

DATES: Comments on the proposal will be accepted through September 15, 2016. New fees would begin after January 2017.

ADDRESSES: Jeremiah C. Ingersoll, Forest Supervisor, Siuslaw National Forest, 3200 SW Jefferson Way, Corvallis, OR 97333.

FOR FURTHER INFORMATION CONTACT: Dani Pavoni, Recreation Staff Officer, 541-750-7046 or email SiuslawRecFee@fs.fed.us.

SUPPLEMENTARY INFORMATION: The Federal Recreation Lands Enhancement Act (Title VII, Pub. L. 108-447) directed the Secretary of Agriculture to publish a six month advance notice in the Federal Register whenever new recreation fee areas are established.

Once public involvement is complete, these new fees will be reviewed and a recommendation made by a Recreation Resource Advisory Committee prior to a final decision and implementation.

Visitors wanting to reserve Castle Rock, Rocky Bend or Hebo Kitchen group sites would need to do so through the national reservation system at www.recreation.gov or by calling 1-877-444-6777 when it becomes available.

Dated: June 17, 2016.
Jeremiah C. Ingersoll,
Forest Supervisor.

[FR Doc. 2016-15156 Filed 6-24-16; 8:45 am]

BILLING CODE 3410-11-P